ENVIRONMENTAL PROTECTION AGENCY

[FRL-8211-4]

Proposed CERCLA Administrative Cost Recovery Settlement; Rawleigh Building Site, Freeport, IL

AGENCY: U.S. Environmental Protection Agency (“Agency”).

ACTION: Extension of notice; request for public comment on proposed administrative cost recovery settlement.

SUMMARY: In accordance with section 122(i) of the Comprehensive Environmental Response, Compensation, and Liability Act, as amended (“CERCLA”), 42 U.S.C. 9622(i), notice is hereby given of a proposed administrative settlement for recovery of past response costs concerning the Rawleigh Building site in Freeport, Illinois with the following settling parties: Tusc. Corp. No. 1, Inc., Tusc. Corp. No. 4, Inc., Tusc. International, GP, The Tuscarora Corporation.

The settlement requires the settling parties to pay $35,000 to the Hazardous Substance Superfund. The settlement includes a covenant not to sue the settling parties pursuant to Section 107(a) of CERCLA, 42 U.S.C. 9607(a).

For thirty (30) days following the date of publication of this notice, the Agency will receive written comments relating to the settlement. The Agency will consider all comments received and may modify or withdraw its consent to the settlement if comments received disclose facts or considerations which indicate that the settlement is inappropriate, improper, or inadequate.

DATES: Comments must be submitted on or before September 27, 2006.

ADDRESSES: The proposed settlement is available for public inspection at the U.S. EPA Records Center, Room 714, 77 West Jackson Boulevard, Chicago, Illinois 60604. A copy of the proposed settlement may be obtained from Steven P. Kaiser, Associate Regional Counsel, 77 West Jackson Boulevard, Chicago, Illinois 60604 whose telephone number is (312) 353-3804. Comments should reference the Rawleigh Building Site, U.S. EPA Docket No. V-W-06-C-844, and should be addressed to Steven P. Kaiser, Associate Regional Counsel, 77 West Jackson Boulevard, Chicago, Illinois 60604.

FOR FURTHER INFORMATION CONTACT: Steven P. Kaiser, 77 West Jackson Boulevard, Chicago, Illinois 60604 whose telephone number is (312) 353-3804.

Background: Additional background information and/or the Agency's response to any comments received will be available for public inspection at the following locations:

Freeport Public Library, 100 E. Douglas Street, Freeport, IL 61032.

U.S. EPA Record Center, Room 714 U.S. EPA, 77 West Jackson Boulevard, Chicago, Illinois 60604-3590.

Authority: The Comprehensive Environmental Response, Compensation, and Liability Act, as amended, 42 U.S.C. 9601-9675.

Site ID: Spill ID Number B5 G4.

Dated: July 20, 2006.
Richard C. Karl,
Director, Superfund Division.

[FR Doc. 06-7191 Filed 8-25-06; 8:45 am]

BILLING CODE 6560-50-M